NATIONAL AERONAUTICS AND SPACE ADMINISTRATION

[Notice 05-077]

NASA Search for Earth-Like Planets Strategic Roadmap Committee; Meeting

AGENCY: National Aeronautics and Space Administration (NASA).

ACTION: Notice of meeting.

SUMMARY: In accordance with the Federal Advisory Committee Act, Public Law 92-463, as amended, the National Aeronautics and Space Administration announces a meeting of the Search for Earth-Like Planets Strategic Roadmap Committee.

DATES: Monday, May 16, 2005, 8:30 a.m. to 5 p.m., Tuesday, May 17, 2005, 8:30 a.m. to 5 p.m. Pacific Daylight Time.

ADDRESSES: Crowne Plaza Hotel Seattle, 1113 6th Avenue, Seattle, WA 98101.

FOR FURTHER INFORMATION CONTACT: Dr. Eric Smith, 202-358-2439.

SUPPLEMENTARY INFORMATION: The meeting will be open to the public up to the seating capacity of the meeting room. Attendees will be requested to sign a register.

The agenda for the meeting is as follows:

• Discussion of overall roadmap strategy

• Discussion of draft roadmap sections

• Roadmap integration working sessions

• Plans and assignments for roadmap completion

It is imperative that the meeting be held on these dates to accommodate the scheduling priorities of the key participants.

Dated: April 19, 2005.
P. Diane Rausch,
Advisory Committee Management Officer, National Aeronautics and Space Administration.

[FR Doc. 05-8231 Filed 4-22-05; 8:45 am]

BILLING CODE 7510-13-P